DEPARTMENT OF ENERGY

Federal Energy Regulatory Commission

Combined Notice of Filings #1

Take notice that the Commission received the following electric rate filings:

Docket Numbers: ER12-569-008; ER13-712-008; ER10-1849-007;

ER11-2037-007; ER12-2227-007;ER10-1852-011;

ER10-1887-007; ER10-1920-009;ER10-1928-009;

ER10-1952-007; ER12-1228-009;ER10-1961-007;

ER14-2707-004; ER10-2720-009;ER11-4428-009;

ER12-1880-008; ER12-895-007;ER10-1971-021;

ER14-2710-004; ER15-58-002;ER15-30-002;

ER14-2708-005; ER14-2709-004;ER13-2474-003

Applicants: Blackwell Wind, LLC, Cimarron Wind Energy, LLC, Elk City Wind, LLC, Elk City II Wind, LLC, Ensign Wind, LLC Florida Power & Light Company, FPL Energy Cowboy Wind, LLC, FPL Energy Oklahoma Wind, LLC, FPL Energy Sooner Wind, LLC, Gray County Wind Energy, LLC, High Majestic Wind II, LLC, High Majestic Wind Energy Center, LLC, Mammoth Plains Wind Project, LLC, Minco Wind, LLC, Minco Wind II, LLC, Minco Wind III, LLC, Minco Wind Interconnection Services, LLC, NextEra Energy Power Marketing, LLC, Palo Duro Wind Energy, LLC, Palo Duro Wind Interconnection Services, LLC, Seiling Wind Interconnection Services, LLC, Seiling Wind, LLC, Seiling Wind II, LLC, Steel Flats Wind Project, LLC

Description: Notification of Change in Status of NextEra Resources Entities.

Filed Date: 9/17/15.

Accession Number: 20150917-5156.

Comments Due: 5 p.m. ET 10/8/15.

Docket Numbers: ER13-2073-002.

Applicants: Source Power & Gas LLC.

Description: Notification of Change in Status by Source Power & Gas LLC.

Filed Date: 9/17/15.

Accession Number: 20150917-5148.

Comments Due: 5 p.m. ET 10/8/15.

Docket Numbers: ER14-649-004.

Applicants: Midcontinent Independent System Operator, Inc., Entergy Services, Inc.

Description: Compliance filing: 2015-09-17_Entergy Attachment O Compliance Filing ER13-948 to be effective 11/1/2015.

Filed Date: 9/17/15.

Accession Number: 20150917-5114.

Comments Due: 5 p.m. ET 10/8/15.

Docket Numbers: ER15-883-003.

Applicants: Southern California Edison Company.

Description: Tariff Amendment: Executed GIA and Executed Distrib Serv Agmt with San Gorgonio Westwinds II, LLC to be effective 1/20/2015.

Filed Date: 9/18/15.

Accession Number: 20150918-5003.

Comments Due: 5 p.m. ET 10/9/15.

Docket Numbers: ER15-2662-000.

Applicants: PacifiCorp.

Description: Section 205(d) Rate Filing: Dugway Non-Conforming SGIA to be effective 9/9/2015.

Filed Date: 9/17/15.

Accession Number: 20150917-5116.

Comments Due: 5 p.m. ET 10/8/15.

Docket Numbers: ER15-2663-000.

Applicants: Entergy Gulf States Louisiana, L.L.C.

Description: Compliance filing: EGSL Compliance (ER14-73) 9-17-2015 to be effective 12/19/2013.

Filed Date: 9/17/15.

Accession Number: 20150917-5119.

Comments Due: 5 p.m. ET 10/8/15.

Docket Numbers: ER15-2664-000.

Applicants: Entergy Louisiana, LLC.

Description: Compliance filing: ELL Compliance (ER14-73) 9-17-2015 to be effective 12/19/2013.

Filed Date: 9/17/15.

Accession Number: 20150917-5122.

Comments Due: 5 p.m. ET 10/8/15.

Docket Numbers: ER15-2665-000.

Applicants: Entergy Mississippi, Inc.

Description: Compliance filing: EMI Compliance (ER14-73) 9-17-2015 to be effective 12/19/2013.

Filed Date: 9/17/15.

Accession Number: 20150917-5123.

Comments Due: 5 p.m. ET 10/8/15.

Docket Numbers: ER15-2666-000.

Applicants: Entergy New Orleans, Inc.

Description: Compliance filing: ENOI Compliance (ER14-73) 9-17-2015 to be effective 12/19/2013.

Filed Date: 9/17/15.

Accession Number: 20150917-5124.

Comments Due: 5 p.m. ET 10/8/15.

Docket Numbers: ER15-2667-000.

Applicants: Entergy Texas, Inc.

Description: Compliance filing: ETI Compliance (ER14-73) 9-17-2015 to be effective 12/19/2013.

Filed Date: 9/17/15.

Accession Number: 20150917-5125.

Comments Due: 5 p.m. ET 10/8/15.

Docket Numbers: ER15-2668-000.

Applicants: Land of the Sky MT, LLC.

Description: Baseline eTariff Filing: Application for Market-Based Rate Tariff, Blanket Approval and Waivers to be effective 10/1/2015.

Filed Date: 9/17/15.

Accession Number: 20150917-5144.

Comments Due: 5 p.m. ET 10/8/15.

Docket Numbers: ER15-2669-000.

Applicants: Southwest Power Pool, Inc.

Description: Notice of Cancellation of Firm Point-To-Point Transmission Service Agreement No. 1487 of Southwest Power Pool, Inc.

Filed Date: 9/18/15.

Accession Number: 20150918-5054.

Comments Due: 5 p.m. ET 10/9/15.

Docket Numbers: ER15-2670-000.

Applicants: Midcontinent Independent System Operator, Inc.

Description: Section 205(d) Rate Filing: 2015-09-18_SA 2698 OTP-Northern States Power Company 1st Rev GIA (J262/J263) to be effective 9/19/2015.

Filed Date: 9/18/15.

Accession Number: 20150918-5089.

Comments Due: 5 p.m. ET 10/9/15.

Take notice that the Commission received the following electric securities filings:

Docket Numbers: ES15-70-000.

Applicants: Georgia Power Company.

Description: Application of Georgia Power Company for authorization to issue securities.

Filed Date: 9/17/15.

Accession Number: 20150917-5147.

Comments Due: 5 p.m. ET 10/8/15.

Take notice that the Commission received the following electric reliability filings:

Docket Numbers: RD15-7-000.

Applicants: North American Electric Reliability Corporation.

Description: Petition of the North American Electric Reliability Corporation for Approval of Proposed Interconnection Reliability Operations and Coordination Reliability Standards.

Filed Date: 9/16/15.

Accession Number: 20150916-5156.

Comments Due: 5 p.m. ET 10/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 18, 2015.
Nathaniel J. Davis, Sr.,
Deputy Secretary.

[FR Doc. 2015-24238 Filed 9-23-15; 8:45 am]

BILLING CODE 6717-01-P